DEPARTMENT OF THE TREASURY

Internal Revenue Service

26 CFR Parts 1 and 301

[REG-159243-03]

RIN 1545-BC86

Residence and Source Rules Involving U.S. Possessions and Other Conforming Changes; Correction

AGENCY: Internal Revenue Service (IRS), Treasury.

ACTION: Correction to Notice of proposed rulemaking and notice of proposed rulemaking by cross-reference to temporary regulations.

SUMMARY: This document corrects temporary regulations (REG-159243-03) that were published in the Federal Register on Monday, April 11, 2005 (70 FR 18949). The document contains temporary regulations providing rules under section 937(a) of the Internal Revenue Code (Code) for determining whether an individual is a bona fide resident of the following U.S. possessions: American Samoa, Guam, the Northern Mariana Islands, Puerto Rico, and the United States Virgin Islands.

SUPPLEMENTARY INFORMATION:

Background

The notice of proposed rulemaking and notice of proposed rulemaking by cross-reference to temporary regulations (REG-159243-03) that is the subject of these corrections are under section 937 of the Internal Revenue Code.

Need for Correction

As published, REG-159243-03 contain errors that may prove to be misleading and are in need of clarification.

List of Subjects

Income taxes.

Correction of Publication

Accordingly, the notice of proposed rulemaking and notice of proposed rulemaking by cross-reference to temporary regulations (REG-159243-03), that was the subject of FR Doc. 05-7088, is corrected as follows:

1. On page 18949, column 1, in the preamble under the caption SUMMARY, second paragraph, third line, the language “sections 1, 876, 881, 884, 931, 932, 933,” is corrected to read, “sections 876, 881, 884, 931, 932, 933,”.

PART 1—INCOME TAXES

Authority: 26 U.S.C. 7805 * * * Section 1. 935-1 also issued under 26 U.S.C. 7654(e). * * *

§ 1.934-1 [Corrected]

2. On page 18951, column 2, § 1.934-1, Par. 15, line 2, the language “is amended as follows:” is corrected to read “as follows:”.

§ 1.935-1 [Corrected]

3. On page 18951, column 3, § 1.935-1, line 3, the language “through (3) is the same as the text of” is corrected to read “through (a)(3) is the same as the text of”.

4. On page 18952, column 3, in the signature block, the language “Deputy Commissioner for Services and” is corrected to read “Acting Deputy Commissioner for Services and”.

Cynthia Grigsby,
Acting Chief, Publications and Regulations Branch, Legal Processing Division, Associate Chief Counsel, (Procedures and Administration).

[FR Doc. 05-9422 Filed 5-11-05; 8:45 am]

BILLING CODE 4830-01-P